DEPARTMENT OF ENERGY

Federal Energy Regulatory Commission

[Project No. 2188-245]

NorthWestern Corporation; Notice of Application Accepted for Filing and Soliciting Comments, Motions To Intervene, and Protests

Take notice that the following hydroelectric application has been filed with the Commission and is available for public inspection:

a. Application Type: Non-Capacity Amendment to License.

b. Project No: 2188-245.

c. Date Filed: August 29, 2019, supplemented April 30, 2020.

d. Applicant: NorthWestern Corporation.

e. Name of Project: Missouri-Madison Hydroelectric Project.

f. Location: The project is located on the Madison and Missouri Rivers in Gallatin, Madison, Lewis and Clark, and Cascade counties, Montana.

g. Filed Pursuant to: Federal Power Act, 16 U.S.C. 791a-825r.

h. Applicant Contact: Mary Gail Sullivan, Director, Environmental and Lands, NorthWestern Corporation, 9 W Granite St., Butte, Montana 59701, 406-497-3382, MaryGail.Sullivan@northwestern.com.

John Tabaracci, Corporate Counsel, NorthWestern Corporation, 208 North Montana Avenue, Suite 205, Helena, Montana 59601, (406) 443-8983, john.tabaracci@northwestern.com.

i. FERC Contact: Jennifer Ambler, (202) 502-8586, jennifer.ambler@ferc.gov.

j. Deadline for filing comments, motions to intervene, and protests: June 5, 2020.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. Hand delivered submissions in docketed proceedings should be delivered to Health and Human Services, 12225 Wilkins Avenue, Rockville, Maryland 20852. The first page of any filing should include docket number P-2188-245. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: NorthWestern proposes to amend its license to operate, at its discretion and to support grid reliability, the Ryan Development of the Missouri-Madison Hydroelectric Project to provide baseload generation, short-term reserves, load following generation, and peaking by fluctuating the level of the Ryan Reservoir in coordination with the Cochrane and Morony Developments. The proposed change to project operations would result in up to one foot above (to 3,038 feet) and eight feet below (to 3,029 feet) the current full pool elevation of 3,037 feet.

l. Locations of the Application: In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: May 6, 2020.
Kimberly D. Bose,
Secretary.

[FR Doc. 2020-10106 Filed 5-11-20; 8:45 am]

BILLING CODE 6717-01-P